DEPARTMENT OF LABOR

Employment and Training Administration

[TA-W-59,506]

Greatbatch Hittman, Inc., Columbia, MD; Notice of Termination of Investigation

Pursuant to section 221 of the Trade Act of 1974, as amended, an investigation was initiated on June 2, 2006 in response to a worker petition filed by a state agency on behalf of workers at Greatbatch Hittman, Inc., Columbia, Maryland.

The petitioner has requested that the petition be withdrawn. Consequently, the investigation has been terminated.

Signed at Washington, DC, this 20th day of June, 2006.
Elliott S. Kushner,
Certifying Officer, Division of Trade Adjustment Assistance.

[FR Doc. E6-11093 Filed 7-13-06; 8:45 am]

BILLING CODE 4510-30-P